DEPARTMENT OF DEFENSE

Office of the Secretary

Membership of the Performance Review Board

AGENCY: Defense Finance and Accounting Service, Department of Defense.

ACTION: Notice.

This notice announces the appointment of the members of the Performance Review Board (PRB) of the Defense Finance and Accounting Service. The publication of PRB membership is required by 5 U.S.C. 4314(c)(4).

The Performance Review Board (PRB) provides fair and impartial review of Senior Executive Service performance appraisals and makes recommendations regarding performance ratings and performance scores to the Director, DFAS.

DATES: Effective Date: November 27, 2007.

FOR FURTHER INFORMATION CONTACT: Jerry Hovey, DFAS SES Program Manager, Defense Finance and Accounting Service, Arlington, Virginia, (863) 815-3709.

SUPPLEMENTARY INFORMATION: In accordance with 5 U.S.C. 4314(c)(4), the following executives are appointed to the Defense Finance and Accounting Service PRB: Teresa A. McKay, Patrick T. Shine, Leon J. Krushinski, Jerry S. Hinton, Kathleen D. Noe.

Executives listed will serve a one-year renewable term, effective November 27, 2007.

Dated: October 11, 2007.
L.M. Bynum,
Alternate OSD Federal Register Liaison Officer, DoD.

[FR Doc. 07-5116 Filed 10-16-07; 8:45 am]

BILLING CODE 5001-06-M